DEPARTMENT OF LABOR

Employment and Training Administration

[TA-W-37,651]

Nortel Networks, Xros, Inc., Northern Telephone, Alteon Networks, Santa Clara, CA; Amended Certification Regarding Eligibility To Apply for Worker Adjustment Assistance

In accordance with Section 223 of the Trade Act of 1974 (19 U.S.C. 2273), the Department of Labor issued a Certification of Eligibility to Apply for Worker Adjustment Assistance on May 30, 2000, applicable to workers of Nortel Networks, Santa Clara, California. The notice was published in the Federal Register on June 29, 2000 (65 FR 40135).

At the request of the State agency, the Department reviewed the certification for workers of the subject firm. The workers were engaged in the production of telecommunications equipment, primarily printed circuit assemblies and PBX telephone switches.

New information provided by the State shows that some workers separated from employment at the Santa Clara, California location of Nortel Networks had their wages reported under three separate unemployment insurance (UI) tax accounts for Xros, Inc. and Northern Telephone, Santa Clara, California and Alteon Networks, Santa Clara, California and San Jose, California.

Accordingly, the Department is amending the certification to properly reflect this matter.

The intent of the Department's certification is to include all workers of Nortel Networks who were adversely affected by increased imports.

The amended notice applicable to TA-W-37,651 is hereby issued as follows:

All workers of Nortel Networks, Santa Clara, California; and workers of Xros, Inc., Northern Telephone, and Alteon Networks, producing telecommunications equipment, primarily printed circuit assemblies and PBX telephone switches, at Nortel Networks, Santa Clara, California, who became totally or partially separated from employment on or after April 20, 1999, through May 30, 2002, are eligible to apply for adjustment assistance under Section 223 of the Trade Act of 1974.

Signed at Washington, DC this 26th day of November, 2002.
Linda G. Poole,
Certifying Officer, Division of Trade Adjustment Assistance.

[FR Doc. 02-32234 Filed 12-20-02; 8:45 am]

BILLING CODE 4510-30-P